DEPARTMENT OF JUSTICE

[OMB 1140-0079]

Agency Information Collection Activities; Proposed eCollection eComments Requested; Revision of a Previously Approved Collection; Transactions Among Licensee/Permittees and Transactions Among Licensees and Holders of User Permits

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until January 21, 2025.

FOR FURTHER INFORMATION CONTACT: If you have additional comments especially on the estimated public burden or associated response time, suggestions, or need a copy of the proposed information collection instrument with instructions or additional information, contact: John Basile, EIPB, either by mail at Bureau of Alcohol, Tobacco, Firearms, and Explosives; 99 New York Ave NE; Washington, DC 20226, by email at EIPB@atf.gov/john.basile@atf.gov, or telephone at (202) 648-7120.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This information collection requires specific transactions for licensee/permittees and holders of user permits. These requirements are outlined in 27 CFR 555.103 and 555.105. Information Collection (IC) OMB 1140-0079 is being revised to reflect the decrease in total respondents (from 46,500 in 2021, to 3,391 in 2024) and the increase in total burden hours (from 23,250 hours in 2021 to 44,083 hours in 2024). This IC Is also being revised to include the monetized cost of the hourly burden in this renewal of $1,983,735, which had not been included before.

Overview of This Information Collection

1. Type of Information Collection: Revision of a previously approved collection.

2. The Title of the Form/Collection: Transactions Among Licensee/Permittees and Transactions Among Licensees and Holders of User Permits.

3. The agency form number, if any, and the applicable component of the Department sponsoring the collection: Form number: None.

Component: Bureau of Alcohol, Tobacco, Firearms and Explosives, U.S. Department of Justice.

4. Affected public who will be asked or required to respond, as well as the obligation to respond: Affected Public: Individuals or households, Farms, Private Sector-for or not for profit institutions. The obligation to respond is mandatory per 18 U.S.C. chapter 40, 18 U.S.C. 842(a), and 27 CFR 555.103.

5. An estimate of the total number of respondents and the amount of time estimated for an average respondent to respond: An estimated 3,391 respondents will respond to this collection once per distribution, and it will take each respondent approximately 0.1667 hours to complete their responses.

6. An estimate of the total annual burden (in hours) associated with the collection: The estimated annual public burden associated with this collection is 44,083 hours, which is equal to 264,498 (total respondents) * 1 (# of response per respondent) * 10 minutes (0.16666667 hours).

7. An estimate of the total annual cost burden associated with the collection, if applicable: $0.

Total Burden Hours
Activity | Number of respondents | Frequency (distributions per year) | Total annual responses | Time per response | Total annual burden (hours)
Transactions Among Licensee/Permittees and Transactions Among Licensees and Holders of User Permits | 3,391 | 78 | 264,498 | 0.16666667 | 44,083
Unduplicated Totals | 3,391 | 78 | 264,498 | 0.16666667 | 44,083

If additional information is required contact: Darwin Arceo, Department Clearance Officer, United States Department of Justice, Justice Management Division, Policy and Planning Staff, Two Constitution Square, 145 N Street NE, 4W-218, Washington, DC.

Dated: November 14, 2024.
Darwin Arceo,
Department Clearance Officer for PRA, U.S. Department of Justice.

[FR Doc. 2024-26964 Filed 11-18-24; 8:45 am]

BILLING CODE 4410-FY-P